FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012057-008.

Title: CMA CGM/Maersk Line Space Charter, Sailing and Cooperative Working Agreement Asia to USEC and PNW-Suez/PNW & Panama Loops.

Parties: A.P. Moller-Maersk A/S and CMA CGM S.A.

Filing Party: Mark J. Fink, Esq.; Cozen O'Connor; 1627 I Street, NW Suite 1100; Washington, DC 20006.

Synopsis: The amendment would provide for the deployment of the seventeenth vessel and revise the space allocations of the parties accordingly. The parties have requested expedited review.

By Order of the Federal Maritime Commission.
Dated: November 16, 2012.
Karen V. Gregory,
Secretary.

[FR Doc. 2012-28344 Filed 11-20-12; 8:45 am]

BILLING CODE 6730-01-P